OFFICE OF PERSONNEL MANAGEMENT

Submission for Review: RI 30-2, Annuitant's Report of Earned Income, 3206-0034

AGENCY: Office of Personnel Management.

ACTION: 30-Day notice and request for comments.

SUMMARY: The Retirement Services, Office of Personnel Management (OPM) offers the general public and other Federal agencies the opportunity to comment on a revised information collection (ICR) with edits, Annuitant's Report of Earned Income, RI 30-2. This ICR has been revised in the following manner: (1) The display of the OMB control number (2) updated the survey year (3) updated OPM's mailing address (4) updated the edition date (5) omission of the scannable bubbles (6) added the Federal Relay Service contact information.

DATES: Comments are encouraged and will be accepted until December 30, 2021.

ADDRESSES: Written comments and recommendations for the proposed information collection should be sent within 30 days of publication of this notice to http://www.reginfo.gov/public/do/PRAMain . Find this particular information collection by selecting “Currently under Review—Open for Public Comments” or by using the search function or fax to (202) 395-6974.

FOR FURTHER INFORMATION CONTACT: A copy of this information collection, with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 606-4808.

SUPPLEMENTARY INFORMATION: As required by the Paperwork Reduction Act of 1995 OPM is soliciting comments for this collection. The information collection (OMB No. 3206-0034) was previously published in the Federal Register on July 8, 2021 at 86 FR 36166, allowing for a 60-day public comment period. No comments were received for this collection. The purpose of this notice is to allow an additional 30 days for public comments. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

RI 30-2, Annuitant's Report of Earned Income, is used annually to determine if disability retirees under age 60 have earned income which will result in the termination of their annuity benefits under title 5, U.S.C. Sections 8337 and 8455. It also specifies the conditions to be met and the documentation required for a person to request reinstatement.

Analysis

Agency: Retirement Services, Office of Personnel Management.

Title: Annuitant's Report of Earned Income (Paper Form).

OMB Number: 3206-0034.

Frequency: On occasion.

Affected Public: Individuals or Households.

Number of Respondents: 21,000.

Estimated Time per Respondent: 35 minutes.

Total Burden Hours: 12,250.

Title: Annuitant's Report of Earned Income (Services Online (SOL)).

Number of Respondents: 24,040.

Estimated Time per Respondent: 10 minutes.

Total Burden Hours: 1,995.

Title: Annuitant's Report of Earned Income (Electronic Form).

Number of Respondents: 14,041.

Estimated Time per Respondent: 10 minutes.

Total Burden Hours: 2,340.

U.S. Office of Personnel Management.
Kellie Cosgrove Riley,
Director, Office of Privacy and Information Management.

[FR Doc. 2021-26071 Filed 11-29-21; 8:45 am]

BILLING CODE 6325-38-P